DEPARTMENT OF THE TREASURY

Office of Foreign Assets Control

Additional Designations of Individuals and Entities Pursuant to Section 804(b) of the Foreign Narcotics Kingpin Designation Act (“Kingpin Act”), 21 U.S.C. 1903(b)

AGENCY: Office of Foreign Assets Control, Treasury.

ACTION: Notice.

SUMMARY: The Treasury Department's Office of Foreign Assets Control (“OFAC”) is publishing the names of seven individuals and one entity whose property and interests in property have been blocked pursuant to the Foreign Narcotics Kingpin Designation Act (“Kingpin Act”) (21 U.S.C. 1901-1908, 8 U.S.C. 1182).

DATES: The designation by the Director of OFAC of seven individuals and one entity identified in this notice, pursuant to section 805(b) of the Foreign Narcotics Kingpin Designation Act (“Kingpin Act”), 21 U.S.C. 1904(b), is effective on February 25, 2010.

FOR FURTHER INFORMATION CONTACT: Assistant Director, Compliance Outreach & Implementation, Office of Foreign Assets Control, Department of the Treasury, 1500 Pennsylvania Avenue, NW. (Treasury Annex), Washington, DC 20220, Tel.: 202/622-2490.

SUPPLEMENTARY INFORMATION:

Electronic and Facsimile Availability

This document and additional information concerning OFAC are available on OFAC's Web site (http://www.treas.gov/ofac) or via facsimile through a 24-hour fax-on-demand service, tel.: 202/622-0077.

Background

The Kingpin Act became law on December 3, 1999. The Kingpin Act establishes a program targeting the activities of significant foreign narcotics traffickers and their organizations on a worldwide basis. It provides a statutory framework for the President to impose sanctions against significant foreign narcotics traffickers and their organizations on a worldwide basis, with the objective of denying their businesses and agents access to the U.S. financial system and to the benefits of trade and transactions involving U.S. companies and individuals.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On February 25, 2010 the Director of OFAC designated seven individuals and one entity whose property and interests in property are blocked pursuant to section 805(b) of the Foreign Narcotics Kingpin Designation Act.

The list of additional designees is as follows:

Individuals

1. MENDEZ VARGAS, Jose de Jesus (a.k.a. CHAMULA; a.k.a. CHANGO; a.k.a. CHANGO MENDEZ; a.k.a. CHUY; a.k.a. CHUY MENDEZ; a.k.a. EL CHANGO; a.k.a. MENDEZ VARGAS, Jesus; a.k.a. MENDEZ, Jesus), Tazumbos, Jalisco, Mexico; Calle Dr. Lose Luis Mora Col Morelos, Apatzingan, Michoacan, Mexico; Calle Carlos Salazar Col Buenos Aires, Apatzingan, Michoacan, Mexico; Toluca, Mexico, Mexico; Calle Acatitla 122, Col. Ferrocarril, Apatzingan, Mexico; Potrero Grande de C de Paracuaro, Apatzingan, Mexico; c/o Club Abaro, Ave Vicente Villada, Mexico City, Municipio de Mexico City, D.F., Mexico; DOB 28 Feb 1974; alt. DOB 18 Sep 1989; alt. DOB 6 Aug 1973; POB El Coloma, Michoacan; alt. POB Eduardo Neri, Guerrero; alt. POB Acapulco de Juarez, Guerrero; nationality Mexico; C.U.R.P. MEVJ890918HGRNRS09 (Mexico) (individual) [SDNTK]

2. MORENO GONZALEZ, Nazario (a.k.a. CASTREJÓN PEÑA, Víctor Nazario; a.k.a. CHAYO; a.k.a. EL CHAYO; a.k.a. EL DULCE; a.k.a. EL MAS LOCO; a.k.a. LA COMADRE; a.k.a. LOCO; a.k.a. MORENO, Chayo; a.k.a. MORENO MADRIGAL, Nazario; a.k.a. MORENO, Jose; a.k.a. TINO), Calle Isidro Murivera, Matamoros 51370, Mexico; Apatzingan, Michoacan, Mexico; 625 Virgilio Garza Chepevera, Monterrey, Nuevo Leon 64030, Mexico; 7 Calle Fray Servando Teresa de Mier, Aptazingan, Michoacan, Mexico; 336 Calle Priv Carlos S de Gortari, Monterrey, Nuevo Laredo, Mexico; 36 Calle Nayarit, Caborca, Sonora 83610, Mexico; DOB 8 Mar 1970; alt. DOB 6 Mar 1970; alt. DOB 12 Jun 1967; alt. DOB 12 Jun 1979; alt. DOB 2 Feb 1982; POB Ario de Rosales, Michoacan, Mexico; alt. POB Guanajuatillo, Michoacan, Mexico; citizen Mexico; C.U.R.P. MOGN700308HMNRNZ07 (Mexico); Identification Number 092520304 (Mexico); R.F.C. MOGN670612TN0 (Mexico); alt. R.F.C. MOGN700308TN2 (Mexico); alt. R.F.C. MOGN790612TN8 (Mexico); SSN 601-62-3570 (United States) (individual) [SDNTK]

3. LOYA PLANCARTE, Dionicio (a.k.a. EL TIO; a.k.a. LOYA PLANCARTE, Dionisio), La Calle Prolongacion Finlandia, Fracc Arboledas, Morelia, Michoacan, Mexico; Calle Sin Nombre 100, Cenobio Moreno, Apatzingan, Michoacan 60710, Mexico; Joan Sebastian Bach 87, 2-B, Col Bosque de la Loma, Morelia, Michoacan, Mexico; DOB 21 Oct 1955; POB Michoacan, Mexico; R.F.C. LOPD5510214S1 (Mexico) (individual) [SDNTK]

4. GÓMEZ MARTINEZ, Servando (a.k.a. EL PROFE; a.k.a. EL PROFESOR; a.k.a. LA TUTA), 236 Ave. Lazaro Cardenas, Centro 60920, Mexico; 25 Calle Libertad, Vigencia, Mexico; DOB 6 Feb 1966; POB Arteaga, Michoacan, Mexico; C.U.R.P. GOMS660206HMNMRR08 (Mexico); R.F.C. GOMS660206NS4 (Mexico); alt. R.F.C. GOMS790516 (Mexico) (individual) [SDNTK]

5. PLANCARTE SOLÍS, Enrique (a.k.a. KIKE; a.k.a. LA CHIVA), Michoacan, Mexico; c/o Colonia Centro, Ave Lazaro Cardenas Sur 134, Nueva Italia, Michoacan, Mexico; DOB 14 Sep 1970; POB Michoacan, Mexico; nationality Mexico; C.U.R.P. PASE700914HMNLLN09 (Mexico) (individual) [SDNTK]

6. RUEDA MEDINA, Jose Arnoldo (a.k.a. EL FLACO; a.k.a. FLACO; a.k.a. LA MINSA; a.k.a. LOPEZ HUERTA, Arnoldo; a.k.a. LOPEZ RUEDA, Jose Arnoldo; a.k.a. MODELO); DOB 15 Dec 1969; alt. DOB 27 Dec 1969; POB Michoacan, Mexico; alt. POB Paracuaro, Mexico; nationality Mexico; C.U.R.P. RUMA691215HMNDDR08 (Mexico) (individual) [SDNTK]

7. BARRERA MEDRANO, Nicandro (a.k.a. BARRERA MENDOZA, Nicandro; a.k.a. BARRERA, Nicandro; a.k.a. BARRERA, Robert; a.k.a. CHAPARRO; a.k.a. CHATO; a.k.a. EL NICA; a.k.a. EL NICE; a.k.a. EL NICO; a.k.a. NICA; a.k.a. NICANDRO, Barrera Mendoza; a.k.a. NICO), c/o Purepecha Trucking Co., Uruapan, Michoacan, Mexico; DOB 2 Nov 1964; POB Michoacan, Mexico; citizen Mexico; C.U.R.P. BAMN641102HMNRDC02 (Mexico) (individual) [SDNTK]

Entity

1. TRANSPORTADORA PUREPECHA S.A. DE C.V. (a.k.a. PUREPECHA TRUCKING CO.), Avenida de la Revolution 7, Zumpimito, Carr. Apatzingan y Articulo 27, Uruapan, Michoacan 60190, Mexico; Zaragoza 1050, Reynosa, Tabasco, Mexico; Km. 7 Carretera Antigua, Nuevo Laredo, Tamaulipas, Mexico; Zaragoza 1050, Reynosa, Tabasco, Mexico; R.F.C. TPU991105FB4 (Mexico) [SDNTK]

Dated: February 25, 2010.
Adam J. Szubin,
Director, Office of Foreign Assets Control.

[FR Doc. 2010-4373 Filed 3-2-10; 8:45 am]

BILLING CODE 4811-42-P